DEPARTMENT OF ENERGY

Proposed Agency Information Collection

AGENCY: U.S. Department of Energy.

ACTION: Notice and Request for OMB Review and Comment.

SUMMARY: The Department of Energy (DOE) has submitted to the Office of Management and Budget (OMB) for clearance, a proposal for collection of information under the provisions of the Paperwork Reduction Act of 1995. The proposed collection will enable DOE to administer the voluntary Superior Energy Performance™ (SEP) certification program for industrial facilities. This request for information consists of a voluntary data collection process for SEP participation: To enroll industrial facilities, manage and track certification cycles, and relay the costs and benefits of SEP certification to industry. DOE will use this information collection to recognize SEP-certified facilities for their accomplishments. In addition, DOE will use this information to evaluate the costs and benefits of SEP certification, which is consistent with the Executive Order—Accelerating Investment in Industrial Energy Efficiency (August 2012). This information will also help DOE identify strategies to reduce the cost of SEP participation.

DATES: Comments regarding this collection must be received on or before January 9, 2015. If you anticipate that you will be submitting comments, but find it difficult to do so within the period of time allowed by this notice, please advise the DOE Desk Officer at OMB of your intention to make a submission as soon as possible. The Desk Officer may be telephoned at 202-395-4718.

ADDRESSES: Written comments should be sent to the, DOE Desk Officer, Office of Information and Regulatory Affairs, Office of Management and Budget, New Executive Office Building, Room 10102, 735 17th Street NW., Washington, DC 20503. And to Paul Scheihing, EE-5A/Forrestal Building, 1000 Independence Avenue SW., Washington, DC 20585, by fax at 202-586-9234, or by email at paul.scheihing@ee.doe.gov.

FOR FURTHER INFORMATION: Paul Scheihing, EE-5A/Forrestal Building, 1000 Independence Avenue SW., Washington, DC 20585, by fax at 202-586-9234, or by email at paul.scheihing@ee.doe.gov.

SUPPLEMENTARY INFORMATION: This information collection request contains: (1) OMB No. {“New”}; (2) Information Collection Request Title: Superior Energy Performance™ Certification Program; (3) Type of Request: New collection; (4) Purpose: This request for information consists of a voluntary data collection process for SEP participation: to enroll industrial facilities, manage and track certification cycles, and relay the costs and benefits of SEP certification to industry. Typical respondents are expected to be energy managers that have experience with compiling energy use data, and the corresponding data burden is not expected to be substantial.; (5) Annual Estimated Number of Respondents: 575; (6) Annual Estimated Number of Total Responses: 475; (7) Annual Estimated Number of Burden Hours: 650; (8) Annual Estimated Reporting and Recordkeeping Cost Burden: $31,295 .

Statutory Authority: President's Executive Order—Accelerating Investment in Industrial Energy Efficiency (August 2012)

Issued in Washington, DC on December 4, 2014.
Paul Scheihing,
Technology Manager, Advanced Manufacturing Office.

[FR Doc. 2014-28917 Filed 12-9-14; 8:45 am]

BILLING CODE 6450-01-P